DEPARTMENT OF ENERGY

Federal Energy Regulatory Commission

[Project No. 2146-081 Alabama]

Alabama Power Company; Notice of Availability of Final Environmental Assessment

February 26, 2001.

A final environmental assessment (EA) is available for public review. The final EA analyzes the environmental impacts of Alabama Power Company's application for a temporary variance to maintain water levels in Neely Henry Reservoir is part of the Coosa River Hydroelectric Project on the Coosa River in Calhoun, St. Clair and Etowah Counties, Alabama. This project does not occupy any federal lands.

The final EA was written by staff in the Office of Energy Projects, Federal Energy Regulatory Commission. In our final EA, Commission staff conclude that approving Alabama Power Company's application would not constitute a major federal action significantly affecting the quality of the human environment. Copies of our final EA can be viewed on the web at www.ferc.fed.us/online/rim.htm. Call (202) 208-2222 for assistance. Copies are also available for inspection and reproduction at the Commission's Public Reference Room, located at 888 First Street, NE., Room 2A, Washington, DC 20426, or by calling (202) 208-1371.

Linwood A. Watson, Jr.,
Acting Secretary.

[FR Doc. 01-5094 Filed 3-1-01; 8:45 am]

BILLING CODE 6717-01-M